DEPARTMENT OF ENERGY

Federal Energy Regulatory Commission

[Docket Nos. CP88-391-033; RP93-162-013]

Transcontinental Gas Pipe Line Corporation; Notice of Revised Annual Cash-Out Reports

December 28, 2006.

Take notice that on December 21, 2006, Transcontinental Gas Pipe Line Corporation (Transco) tendered for filing revised cash-out reports for the annual periods ended July 31, 2001, 2002, 2003, 2004 and 2005. As explained in the filing, Transco requests that the Commission issue an order that accepts and approves the revised cash-out reports and authorizes Transco to make the appropriate refunds and surcharges to each shipper, as necessary.

Transco states that copies of the filing are being mailed to parties on the official service list in Docket Nos. CP88-391 and RP93-162 and interested state commissions.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 5, 2007.

Magalie R. Salas,
Secretary.

[FR Doc. E6-22674 Filed 1-5-07; 8:45 am]

BILLING CODE 6717-01-P